OFFICE OF SCIENCE AND TECHNOLOGY POLICY

Performance Review Board Membership

AGENCY: Office of Science and Technology Policy.

ACTION: Notice of Senior Executive Service Performance Review Board Membership.

SUMMARY: The Office of Science and Technology Policy publishes the names of the members selected to serve on its SES Performance Review Board (PRB).

DATES: Membership is effective on the date of this notice to January 2027.

FOR FURTHER INFORMATION CONTACT: Ms. Caitlin Pepicelli, Human Capital Specialist or Ms. Stacy Murphy, Deputy Chief Operations Officer/Security Officer, Office of Science and Technology Policy, 1650 Pennsylvania Ave. NW, Washington, DC 20504, 202-456-4444.

SUPPLEMENTARY INFORMATION: Section 4314(c) 4 of Title 5, U.S.C. requires each agency to establish, in accordance with regulations prescribed by the Office of Personnel Management, one or more PRBs. The purpose of this PRB is to review and make recommendations concerning proposed performance appraisals, ratings, bonuses, pay adjustments, and other appropriate personnel actions for incumbents of the SES positions. The Board shall consist of at least three members and more than half of the members shall consist of career appointees. The names and titles of the PRB members are as follows:

Marie Scott, Associate General Counsel, Children, Families and Aging Division, Department of Health and Human Services;

Scott Driggs, Chief Counsel, Office of the Chief Counsel, Denver, Department of Health and Human Services;

Peter Bergstrom, Administrator, Treasury Common Services Center, U.S. Department of the Treasury;

Stephen Klejst, Executive Director-Investigations and Recommendations, U.S. Chemical Safety and Hazard Investigation Board;

Brendan Lynch, Assistant U.S. Trade Representative for South and Central Asian Affairs, Office of the United States Trade Representative.

Effective Date: Membership is effective on the date this notice is published in the Federal Register.

(Authority: 5 U.S.C. 4314(c)4.)

Dated: December 9, 2025.
Stacy Murphy,
Deputy Chief Operations Officer/Security Officer.

[FR Doc. 2025-22588 Filed 12-11-25; 8:45 am]

BILLING CODE 3270-F1-P